DEPARTMENT OF ENERGY

Federal Energy Regulatory Commission

[Docket No. RP00-260-005]

Texas Gas Transmission Corporation; Notice of Proposed Changes in FERC Gas Tariff

November 6, 2000.

Take notice that on October 31, 2000, Texas Gas Transmission Corporation (Texas Gas) tendered for filing changes to its FERC Gas Tariff, First Revised Volume No. 1, in compliance with the Commission's Order on Compliance and Rehearing, and Referring Additional Issues for Hearing issued October 27, 2000, in the above-captioned docket (the October 27 Order):

Substitute First Revised Sixth Revised Sheet No. 1

Second Substitute Original Sheet No. 11D

Substitute Thirty-Second Revised Sheet No. 12

Original Sheet No. 12.01

Substitute Twelfth Revised Sheet No. 17

Seventh Revised Sheet No. 18

Original Sheet No. 19

Texas Gas requests an effective date of November 1, 2000, for the proposed tariff sheets.

Texas Gas further states that it has served copies of this filing upon the company's jurisdictional customers, interested state commission, and all parties appearing on the official restricted service list in Docket No. RP00-260.

Any person desiring to protest said filing should file a protest with the Federal Energy Regulatory Commission, 888 First Street, NE., Washington, DC 20426, in accordance with Section 385.2111 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be reviewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28938 Filed 11-9-00; 8:45 am]

BILLING CODE 6717-01-M